DEPARTMENT OF THE INTERIOR

National Park Service

[2253-665]

Notice of Inventory Completion: Colorado Historical Society (History Colorado), Denver, CO

AGENCY: National Park Service, Interior.

ACTION: Notice.

Notice is here given in accordance with the Native American Graves Protection and Repatriation Act (NAGPRA), 25 U.S.C. 3003, of the completion of an inventory of human remains in the possession and control of the Colorado Historical Society (History Colorado), Denver, CO. The human remains were removed from Canyon de Chelly, AZ.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Colorado Historical Society (History Colorado) professional staff in consultation with representatives of the Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Santa Ana, New Mexico; Pueblo of Santa Clara, New Mexico; Pueblo of Taos, New Mexico; Pueblo of Tesuque, New Mexico; Pueblo of Zia, New Mexico; Ysleta Del Sur Pueblo of Texas; and Zuni Tribe of the Zuni Reservation, New Mexico. The Pueblo of San Felipe, New Mexico; Pueblo of Sandia, New Mexico; and Pueblo of Santo Domingo, New Mexico, were contacted for consultation purposes, but did not attend the consultation meetings.

In 1903, human remains representing a minimum of two individuals were removed from “Massacre Cave,” in Canyon de Chelly, AZ. The remains were removed from the cave by collector Charles M. Schenck while on a “tour” of Canyon de Chelly led by Charles L. Day, who operated a nearby trading post. They were donated to the Colorado Historical Society sometime between 1903 and 1932 (catalog numbers 78.98.47 and UHR.1). No known individuals were identified. No associated funerary objects are present.

“Massacre Cave” is a site where an historically documented massacre of at least 90 Navajo men, women, and children took place in 1805, perpetrated by the Spanish military and led by Antonio Narbona. Victims were reportedly left on the surface of the cave. While “Massacre Cave” also has a documented subsurface Basketmaker II/III component, based on the description of the collecting trip in a 1932 letter from Schenck to the Colorado Historical Society Curator George Woodbury, the remains of these two individuals were collected from the cave's ground surface, and not excavated from subsurface deposits. Osteological analysis indicates that the human remains are Native American and show signs of weathering consistent with prolonged surface exposure.

In 1903, human remains representing a minimum of five individuals were removed from “Sentinel Ruin,” in Canyon de Chelly, AZ, by Charles M. Schenck while on a “tour” of Canyon de Chelly led by Charles L. Day. The individuals were donated to the Colorado Historical Society sometime between 1903 and 1932 (catalog numbers UHR.2.A, and UHR.2.B/UHR.108/UHR.122). UHR.2.A represents two individuals and UHR.2.B/UHR.108/UHR.122 represents three individuals. No known individuals were identified. No associated funerary objects are present.

“Sentinel Ruin” is a documented multi-component site with prehistoric occupations from Basketmaker II to Pueblo III, and an historic Navajo occupation in the 1700s and 1800s. The surface component is the historic Navajo component. Schenck collected only from the surface. Archeological documentation after Schenck's visit indicates “Sentinel Ruin” was undisturbed. Osteological analysis identified the remains as Native American, and two individuals show signs of weathering consistent with prolonged surface exposure.

Officials of the Colorado Historical Society have determined, pursuant to 25 U.S.C. 3001(9), that the human remains described above represent the physical remains of seven individuals of Native American ancestry. Lastly, officials of the Colorado Historical Society have determined, pursuant to 25 U.S.C. 3001(2), that there is a relationship of shared group identity that can be reasonably traced between the Native American human remains and the Navajo Nation, Arizona, New Mexico & Utah.

Representatives of any other Indian Tribe that believes itself to be culturally affiliated with the human remains should contact Bridget Ambler, Curator of Material Culture, Colorado Historical Society, 1560 Broadway, Suite 400, Denver, CO 80202, telephone (303) 866-2303, before June 13, 2011. Repatriation of the human remains to the Navajo Nation, Arizona, New Mexico & Utah may proceed after that date if no additional claimants come forward.

The Colorado Historical Society is responsible for notifying the Hopi Tribe of Arizona; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico, that this notice has been published.

Dated: May 9, 2011.
Sherry Hutt,
Manager, National NAGPRA Program.

[FR Doc. 2011-11867 Filed 5-12-11; 8:45 am]

BILLING CODE 4312-50-P